DEPARTMENT OF COMMERCE

National Oceanic and Atmospheric Administration

50 CFR Part 660

[Docket No. 080225278-81191-02]

RIN 0648-AS96

Fisheries Off West Coast States; West Coast Salmon Fisheries; Amendment 14; Essential Fish Habitat Descriptions for Pacific Salmon

AGENCY: National Marine Fisheries Service (NMFS), National Oceanic and Atmospheric Administration (NOAA), Commerce.

ACTION: Final rule.

SUMMARY: NMFS issues this final rule to implement Essential Fish Habitat (EFH) identifications and descriptions for Pacific salmon included in Amendment 14 to the Pacific Salmon Fishery Management Plan (Salmon FMP). This final rule codifies the EFH identifications and descriptions for freshwater and marine habitats of Pacific salmon managed under the Salmon FMP, including Chinook, coho, and pink salmon. This action is necessary to comply with an order issued by the U.S. District Court for the District of Idaho which directed NMFS to codify the EFH identifications and descriptions contained in Amendment 14 to the Salmon FMP.

DATES: Effective November 14, 2008.

ADDRESSES: Copies of the Record of Decision, the Final Supplemental Environmental Impact Statement, and Amendment 14 to the Salmon FMP are available at www.nwr.noaa.gov or from D. Robert Lohn, Administrator, Northwest Region, NMFS, 7600 Sand Point Way NE, Seattle, WA 98115-0070, phone: 206-526-6150.

FOR FURTHER INFORMATION CONTACT: Steve Copps (Northwest Region, NMFS), 206-526-6140; fax: 206-526-6736.

SUPPLEMENTARY INFORMATION:

The Magnuson-Stevens Fishery Conservation and Management Act (Magnuson-Stevens Act) authorizes the Secretary of Commerce (Secretary) to regulate domestic fisheries within the 200-mile U.S. Exclusive Economic Zone (EEZ) (16 U.S.C. 1811, 1853). Conservation and management of fish stocks is accomplished through Fishery Management Plans (FMPs). Eight regional fishery management councils develop FMPs and amendments to those plans for fisheries within their jurisdiction (16 U.S.C. 1853). To be effective, FMPs and FMP amendments developed by the councils must be approved by the Secretary and then implemented through regulation (16 U.S.C. 1854). More information on the FMP process can be found at 16 U.S.C. 1851-1854.

Essential Fish Habitat

The Magnuson-Stevens Act, originally enacted in 1976, has been amended several times. In 1996, the Sustainable Fisheries Act (SFA) amended the Magnuson-Stevens Act adding provisions intended to end overfishing and rebuild overfished fisheries, reduce bycatch, and assess and minimize the impacts of management measures on fishing communities. Congress articulated in its findings that one of the greatest long-term threats to the viability of commercial and recreational fisheries is the continuing loss of marine, estuarine, and other aquatic habitats. Habitat considerations should receive increased attention for the conservation and management of fishery resources of the United States (16 U.S.C. 1801(a)(9)). In making such findings, Congress declared one of the purposes of the Magnuson-Stevens Act to be the promotion of “the protection of [EFH] in the review of projects conducted under Federal permits, licenses, or other authorities that affect or have the potential to affect such habitat” (16 U.S.C. 1801(b)(7)). To ensure habitat considerations receive increased attention for the conservation and management of fishery resources, the amended Magnuson-Stevens Act required each existing, and any new, FMP to: describe and identify essential fish habitat for the fishery based on the guidelines established by the Secretary under section 1855(b)(1)(A) of this title; minimize to the extent practicable adverse effects on such habitat caused by fishing; and, identify other actions to encourage the conservation and enhancement of such habitat (16 U.S.C. 1853(a)(7)). “EFH” is defined in the Magnuson-Stevens Act as “those waters and substrate necessary to fish for spawning, breeding, feeding, or growth to maturity” (16 U.S.C. 1802(10)).

The EFH regulations (50 CFR 600.815) establish additional guidance to the councils on how to identify and describe EFH. The regulations indicate that councils should obtain information to describe and identify EFH from the best available sources, including peer reviewed literature, unpublished scientific reports, data files of government resource agencies, fisheries landing reports, and other sources of information.

The regulations identify four classification levels to organize available information relevant to EFH identifications and descriptions. Level 1 information is limited to species distributional data; level 2 information includes habitat-related densities; level 3 includes growth, reproduction or survival rates within habitats; and level 4 consists of production rates by habitat. Councils are encouraged to identify and describe EFH based on the highest level of detail (i.e., level 4). The EFH regulations (50 CFR 600.815, subpart J) provide a complete description of each of these levels as well as guidance on how the councils should analyze the available information.

To establish EFH, the regulations advise the councils to interpret the available information in a “risk-averse fashion to ensure adequate areas are identified as EFH for managed species” (50 CFR 600.815(a)(1)(iv)(A)). For Pacific salmon, the Pacific Fishery Management Council (Pacific Council) obtained information at all four levels for certain freshwater areas, and the first three levels of information for the estuaries; only the first level of information was available for marine areas.

Amendment 14 to the Pacific Salmon Fishery Management Plan

The Secretary approved the Salmon FMP under the Magnuson-Stevens Act, (16 U.S.C. 1801 et seq.), in 1978. The Pacific Council has amended the Salmon FMP 14 times since 1978. The Pacific Council identified and described EFH for Pacific Salmon in Amendment 14 to the Salmon FMP and submitted it on June 12, 2000 for Secretarial review. Following a public comment period, the Secretary approved Amendment 14 on September 27, 2000. NMFS codified some, but not all, components of Amendment 14. The Pacific Salmon EFH descriptions and identifications, however, were not codified.

In September of 2003, the U.S. District Court for the District of Idaho (Court) (Case No. CV02-C-EJL) held that the EFH identifications and descriptions for Pacific salmon included in Amendment 14 constitute a substantive rule under the Administrative Procedure Act (APA), 5 U.S.C. 553 et seq. The Court remanded Amendment 14's EFH Pacific Salmon designations to NMFS and ordered that it undertake notice and comment rulemaking to codify the EFH identifications and descriptions. To comply with the Court's order, NMFS published a proposed rule to codify EFH for Pacific salmon on April 20, 2007 (72 FR 19862). Public comments for this action were received through July 19, 2007.

This final rule codifies the EFH identifications and descriptions for freshwater and marine habitats of Pacific salmon managed under the Salmon FMP for Chinook (Oncorhynchus tshawytscha), coho (O. kisutch), and Puget Sound pink (O. gorbuscha) salmon in Washington, Oregon, Idaho and California.

Changes from the Proposed Rule

NMFS made minor, non-substantive changes to the proposed rule to improve the clarity and accuracy of the regulations. Such changes include corrections to United States Geological Survey Hydrological Unit Codes identified in the regulations, deletion of confusing and unnecessary language regarding the extent of the U.S. Exclusive Economic Zone, as well as revisions to correct grammatical and spelling errors.

Comments and Responses

NMFS received one comment on the proposed rule.

Comment: The U.S. Department of Interior commented that the following three Bureau of Reclamation dams should be included in table 1 of the proposed regulations as impassable man-made barriers and thereby function as the upstream extent of EFH: Bumping Lake Dam on the Bumping River (HUC 17090002); McKay Dam on McKay Creek in the Umatilla River basin (HUC 17070103); and Emigrant Dam on Emigrant Creek in the Middle Rogue River basin (HUC 17100308).

In addition, the U.S. Department of Interior noted that the proposed rule would identify EFH for coho salmon in the Lower Deschutes River (HUC 17070306) and commented that based on NOAA Technical Memorandum NMFS-NWRSC-66 entitled “Updated Status of Federally Listed ESUs of West Coast Salmon and Steelhead,” coho salmon did not historically, and do not presently, occur in the Deschutes River Basin.

Response: NMFS acknowledges DOI's comments. NMFS will provide DOI's comments to the Pacific Council for its consideration in the full EFH review required under 50 CFR 600.815(a)(10). During this review, the Council and NMFS will consider what changes to make to EFH in the FMP and will initiate the appropriate plan amendment process. Until this process is complete, NMFS will consider the information provided by DOI in any EFH consultations that may become necessary.

Classification

The NMFS Northwest Region completed an ESA section 7 consultation on November 18, 1999, on the effects of Amendment 14 on listed salmon evolutionarily significant units. Amendment 14 does not by itself authorize any fishing or other activity that would result in adverse effects to listed fish or designated critical habitat. Based on this and other considerations, NMFS concluded that Amendment 14 and its implementing regulations are not likely to adversely affect listed salmon or their critical habitat. This rule is consistent with the determination in Amendment 14 that the action does not jeopardize the continued existence of ESA listed salmon.

This final rule has been determined to be not significant for purposes of Executive Order 12866.

The Chief Counsel for Regulations of the Department of Commerce certified to the Chief Counsel for Advocacy of the Small Business Administration during the proposed rule stage that this action would not have a significant economic impact on a substantial number of small entities. The factual basis for the certification was published in the proposed rule and is not repeated here. No comments were received regarding this certification or the economic impacts of the rule. As a result, a regulatory flexibility analysis was not required and none was prepared.

List of Subjects in 50 CFR Part 660

Administrative practice and procedure, Fisheries, Fishing, Reporting and recordkeeping requirements.

Dated: October 8, 2008.
John Oliver
Deputy Assistant Administrator for Operations, National Marine Fisheries Service.

For the reasons set out in the preamble, NMFS is amending 50 CFR part 660 as follows:

Part 660—FISHERIES OFF WEST COAST STATES

1. The authority citation for part 660 continues to read as follows:

Authority: 16 U.S.C. 1801 et seq.

2. Section 660.412 is added under subpart H to read as follows:

§ 660.412 EFH identifications and descriptions for Pacific salmon.

Pacific salmon essential fish habitat (EFH) includes all those water bodies occupied or historically accessible in Washington, Oregon, Idaho, and California in hydrologic units identified in Table 1 of this subpart H. Exceptions include cases in which man-made barriers (dams) identified in Table 1 of this subpart H represent the upstream extent of Pacific salmon access. EFH also includes the marine and estuarine areas shoreward of state boundaries and the Exclusive Economic Zone (EEZ) off the coasts of California, Oregon, and Washington State. To clearly identify watersheds that contain EFH, NMFS uses fourth field hydrologic unit codes (HUCs) developed by the U.S. Geological Survey (USGS) (defined in the Department of the Interior, USGS publication; Hydrologic Unit Maps, Water Supply Paper 2294, 1987). The geographic extent of HUCs range from first field (largest geographic extent) to sixth field (smallest geographic extent). Fourth field HUCs divide the landscape into distinct geographic areas that are identified by eight numbers unique to that hydrologic unit.

(a) Chinook salmon (Oncorhynchus tshawytscha) EFH includes all streams, estuaries, marine waters, and other water bodies occupied or historically accessible to Chinook salmon in Washington, Oregon, Idaho, and California, in hydrologic units identified in Table 1 of this subpart H. Exceptions include cases in which man-made barriers (dams) identified in Table 1 of this subpart H represent the upstream extent of Pacific salmon access. EFH also includes the marine and estuarine areas shoreward of state boundaries and the EEZ off the coasts of Washington, Oregon, and California north or Point Conception.

(b) Coho salmon (Oncorhynchus kisutch) EFH includes all streams, estuaries, marine waters, and other water bodies occupied or historically accessible to coho in Washington, Oregon, Idaho, and California, in hydrologic units identified in Table 1 of this subpart H. Exceptions include cases in which man-made barriers (dams) identified in Table 1 of this subpart H represent the upstream extent of Pacific salmon access. EFH also includes the marine and estuarine areas shoreward of state boundaries and the EEZ off the coasts Washington, Oregon, and California north of Point Conception.

(c) Pink salmon (Oncorhynchus gorbuscha) EFH includes all streams, estuaries, marine waters, and other water bodies occupied or historically accessible to pink salmon within Washington State, in hydrologic units identified in Table 1 of this subpart H. Exceptions include cases in which man-made barriers (dams) identified in Table 1 of this subpart H represent the upstream extent of Pacific salmon access. EFH also includes waters north and east of Cape Flattery, Washington, including Puget Sound, the Strait of Juan de Fuca and Strait of Georgia.

3. Table 1 to part 660, subpart H, is added to read as follows:

Table 1 to Part 660, Subpart H—Pacific Salmon EFH Identified by USGS Hydrologic Unit Code (HUC)
USGS HUC | State(s) | Hydrologic Unit Name | Salmon Species | Impassible Man-made Barrier (if present)
17110001 | WA | Fraser (Whatcom) | Coho salmon | n/a
17110002 | WA | Strait of Georgia | Chinook, coho, and pink salmon | n/a
17110003 | WA | San Juan Islands | Chinook, coho, and pink salmon | n/a
17110004 | WA | Nooksack River | Chinook, coho, and pink salmon | n/a
17110005 | WA | Upper Skagit | Chinook, coho, and pink salmon | Gorge Lake Dam
17110006 | WA | Sauk River | Chinook, coho, and pink salmon | n/a
17110007 | WA | Lower Skagit River | Chinook, coho, and pink salmon | n/a
17110008 | WA | Stillaguamish River | Chinook, coho, and pink salmon | n/a
17110009 | WA | Skykomish River | Chinook, coho, and pink salmon | n/a
17110010 | WA | Snoqualmie | Chinook, coho, and pink salmon | Tolt Dam (S. Fork Tolt R.)
17110011 | WA | Snohomish River | Chinook, coho, and pink salmon | n/a
17110012 | WA | Lake Washington | Chinook and coho salmon | Cedar Falls (Masonry) Dam (Cedar R.)
17110013 | WA | Duwamish River | Chinook and coho salmon | n/a
17110014 | WA | Puyallup River | Chinook, coho, and pink salmon | n/a
17110015 | WA | Nisqually River | Chinook, coho, and pink salmon | n/a
17110016 | WA | Deschutes River | Chinook and coho salmon | n/a
17110017 | WA | Skokomish River | Chinook and coho salmon | n/a
17110018 | WA | Hood Canal | Chinook, coho, and pink salmon | n/a
17110019 | WA | Puget Sound | Chinook, coho, and pink salmon | n/a
17110020 | WA | Dungeness - Elwha | Chinook, coho, and pink salmon | n/a
17110021 | WA | Hoko - Crescent | Chinook and coho salmon | n/a
17100101 | WA | Hoh - Quillayute | Chinook and coho salmon | n/a
17100102 | WA | Queets - Quinault | Chinook and coho salmon | n/a
17100103 | WA | Upper Chehalis River | Chinook and coho salmon | n/a
17100104 | WA | Lower Chehalis River | Chinook and coho salmon | n/a
17100105 | WA | Grays Harbor | Chinook and coho salmon | n/a
17100106 | WA | Willapa Bay | Chinook and coho salmon | n/a
17080001 | OR/WA | Lower Columbia-Sandy River | Chinook and coho salmon | Impassable Man-made Barrier
17080002 | WA | Lewis River | Chinook and coho salmon | n/a
17080003 | OR/WA | Lower Columbia - Clatskanie River | Chinook and coho salmon | n/a
17080004 | WA | Upper Cowlitz River | Chinook and coho salmon | n/a
17080005 | WA | Cowlitz River | Chinook and coho salmon | n/a
17080006 | OR/WA | Lower Columbia | Chinook and coho salmon | n/a
17090001 | OR | Middle Fork Willamette River | Chinook salmon | Dexter Dam
17090002 | OR | Coast Fork Willamette River | Chinook salmon | Dorena Dam
17090003 | OR | Upper Willamette River | Chinook and coho salmon | n/a
17090004 | OR | McKenzie River | Chinook and coho salmon | Cougar Dam
17090005 | OR | N. Santiam River | Chinook and coho salmon | Big Cliff Dam
17090006 | OR | S. Santiam River | Chinook and coho salmon | n/a
17090007 | OR | Mid. Willamette River | Chinook and coho salmon | n/a
17090008 | OR | Yamhill River | Chinook and coho salmon | n/a
17090009 | OR | Molalla - Pudding River | Chinook and coho salmon | n/a
17090010 | OR | Tualatin River | Chinook and coho salmon | n/a
17090011 | OR | Clackamas River | Chinook and coho salmon | Oak Grove Dam
17090012 | OR | Lower Willamette River | Chinook and coho salmon | n/a
17070101 | OR/WA | Mid. Columbia - Lake Wallula | Chinook and coho salmon | n/a
17070102 | OR/WA | Walla Walla River | Chinook salmon | n/a
17070103 | OR | Umatilla River | Chinook salmon | n/a
17070104 | OR | Willow | Chinook salmon | n/a
17070105 | OR/WA | Mid. Columbia - Hood | Chinook and coho salmon | n/a
17070106 | WA | Klickitat River | Chinook and coho salmon | n/a
17070301 | OR | Upper Deschutes River | Chinook salmon | n/a
17070305 | OR | Lower Crooked River | Chinook salmon | Opal Springs Dam
17070306 | OR | Lower Deschutes River | Chinook and coho salmon | n/a
17070307 | OR | Trout Creek | Chinook and coho salmon | n/a
17070201 | OR | Upper John Day River | Chinook salmon | n/a
17070202 | OR | North Fork John Day River | Chinook salmon | n/a
17070203 | OR | Middle Fork John Day River | Chinook salmon | n/a
17070204 | OR | Lower John Day River | Chinook salmon | n/a
17030001 | WA | Upper Yakima River | Chinook and coho salmon | Keechelus Dam Kachess Dam (Kachess R.) Cle Elum Dam (Cle Elum R.)
17030002 | WA | Naches River | Chinook and coho salmon | Rimrock Dam (Tieton R.)
17030003 | WA | Lower Yakima River | Chinook and coho salmon | n/a
17020005 | WA | Columbia River | Chinook and coho salmon | Chief Joseph Dam
17020006 | WA | Okanogan River | Chinook salmon | n/a
17020007 | WA | Similkameen | Chinook salmon | n/a
17020008 | WA | Methow River | Chinook and coho salmon | n/a
17020010 | WA | Upper Columbia - Entiat River | Chinook and coho salmon | n/a
17020011 | WA | Wenatchee River | Chinook and coho salmon | n/a
17020016 | WA | Upper Columbia - Priest Rapids | Chinook and coho salmon | n/a
17060101 | OR/ID | Hells Canyon | Chinook salmon | Hells Canyon Complex (Hells Canyon, Oxbow, and Brownlee Dams)
17060102 | OR | Imnaha River | Chinook salmon | n/a
17060103 | OR/WA/ID | Lower Snake - Asotin Creek | Chinook and coho salmon | n/a
17060104 | OR | Upper Grande Ronde | Chinook and coho salmon | n/a
17060105 | OR | Wallowa River | Chinook and coho salmon | n/a
17060106 | OR/WA | Lower Grande Ronde | Chinook and coho salmon | n/a
17060107 | WA | Lower Snake - Tucannon River | Chinook and coho salmon | n/a
17060110 | WA | Lower Snake River | Chinook and coho salmon | n/a
17060201 | ID | Upper Salmon River | Chinook salmon | n/a
17060202 | ID | Pahsimeroi River | Chinook salmon | n/a
17060203 | ID | Mid. Salmon - Panther River | Chinook salmon | n/a
17060204 | ID | Lemhi River | Chinook salmon | n/a
17060205 | ID | Upper Middle Fork Salmon River | Chinook salmon | n/a
17060206 | ID | Lower Middle Fork Salmon River | Chinook salmon | n/a
17060207 | ID | Mid. Salmon - Chamberlain | Chinook salmon | n/a
17060208 | ID | S.F. Salmon River | Chinook salmon | n/a
17060209 | ID | Lower Salmon River | Chinook salmon | n/a
17060210 | ID | Little Salmon River | Chinook salmon | n/a
17060301 | ID | Upper Selway River | Chinook salmon | n/a
17060302 | ID | Lower Selway River | Chinook salmon | n/a
17060303 | ID | Lochsa River | Chinook salmon | n/a
17060304 | ID | M.F. Clearwater River | Chinook salmon | n/a
17060305 | ID | S.F. Clearwater River | Chinook salmon | n/a
17060306 | WA/ID | Clearwater River | Chinook and coho salmon | Dworshak Dam (at border of HUCs 17060306 and 17060308)
17100201 | OR | Necanicum River | Chinook and coho salmon | n/a
17100202 | OR | Nehalem River | Chinook and coho salmon | n/a
17100203 | OR | Wilson - Trask - Nestucca | Chinook and coho salmon | n/a
17100204 | OR | Siletz-Yaquina River | Chinook and coho salmon | n/a
17100205 | OR | Alsea River | Chinook and coho salmon | n/a
17100206 | OR | Siuslaw River | Chinook and coho salmon | n/a
17100207 | OR | Siltcoos River | Chinook and coho salmon | n/a
17100301 | OR | N. Umpqua River | Chinook and coho salmon | Soda Springs Dam
17100302 | OR | S. Umpqua River | Chinook and coho salmon | n/a
17100303 | OR | Umpqua River | Chinook and coho salmon | n/a
17100304 | OR | Coos River | Chinook and coho salmon | n/a
17100305 | OR | Coquille River | Chinook and coho salmon | n/a
17100306 | OR | Sixes River | Chinook and coho salmon | n/a
17100307 | OR | Upper Rogue River | Chinook and coho salmon | Lost Creek Dam
17100308 | OR | Middle Rogue River | Chinook and coho salmon | n/a
17100309 | CA/OR | Applegate River | Chinook and coho salmon | Applegate Dam
17100310 | OR | Lower Rogue River | Chinook and coho salmon | n/a
17100311 | CA/OR | Illinois River | Chinook and coho salmon | n/a
17100312 | CA/OR | Chetco River | Chinook and coho salmon | n/a
18010101 | CA/OR | Smith River | Chinook and coho salmon | n/a
18010206 | CA/OR | Upper Klamath River | Chinook and coho salmon | Iron Gate Dam
18010207 | CA | Shasta River | Chinook and coho salmon | n/a
18010208 | CA | Scott River | Chinook and coho salmon | n/a
18010209 | CA/OR | Lower Klamath River | Chinook and coho salmon | n/a
18010210 | CA | Salmon River | Chinook and coho salmon | n/a
18010211 | CA | Trinity River | Chinook and coho salmon | Lewiston Dam
18010212 | CA | S.F. Trinity River | Chinook and coho salmon | n/a
18010102 | CA | Mad-Redwood | Chinook and coho salmon | Robert W. Matthews Dam
18010103 | CA | Upper Eel River | Chinook and coho salmon | Scott Dam
18010104 | CA | Middle Fork Eel River | Chinook and coho salmon | n/a
18010105 | CA | Lower Eel River | Chinook and coho salmon | n/a
18010106 | CA | South Fork Eel River | Chinook and coho salmon | n/a
18010107 | CA | Mattole River | Chinook and coho salmon | n/a
18010108 | CA | Big - Navarro - Garcia | Chinook and coho salmon | n/a
18010109 | CA | Gualala - Salmon Creek | Chinook and coho salmon | n/a
18010110 | CA | Russian River | Chinook and coho salmon | Coyote Valley Dam (E. Fork Russian R.) Warm Springs Dam (Dry Cr.)
18010111 | CA | Bodega Bay | Chinook and coho salmon | n/a
18060001 | CA | San Lorenzo-Soquel | Coho salmon | Newell Dam (Newell Cr.)
18060006 | CA | Central Coastal | Coho salmon | n/a
18050001 | CA | Suisun Bay | Chinook and coho salmon | n/a
18050002 | CA | San Pablo Bay | Chinook and coho salmon | San Pablo Dam (San Pablo Cr.)
18050003 | CA | Coyote Creek | Chinook and coho salmon | LeRoy Anderson Dam
18050004 | CA | San Francisco Bay | Chinook and coho salmon | n/a
18050005 | CA | Tomales-Drakes Bay | Coho salmon | Nicasio Dam (Nicasio Cr.) Peters Dam (Lagunitas Cr.)
18050006 | CA | San Francisco-Coastal South | Coho salmon | n/a
18020101 | CA | Sac.-Lower Cow-Lower Clear | Chinook salmon | n/a
18020102 | CA | Lower Cottonwood Creek | Chinook salmon | n/a
18020103 | CA | Sacramento - Lower Thomes | Chinook salmon | n/a
18020104 | CA | Sacramento - Stone Corral | Chinook salmon | n/a
18020105 | CA | Lower Butte Creek | Chinook salmon | n/a
18020106 | CA | Lower Feather River | Chinook salmon | n/a
18020107 | CA | Lower Yuba River | Chinook salmon | n/a
18020108 | CA | Lower Bear River | Chinook salmon | n/a
18020109 | CA | Lower Sacramento River | Chinook salmon | n/a
18020110 | CA | Lower Cache | Chinook salmon | n/a
18020111 | CA | Lower American River | Chinook salmon | Nimbus Dam
18020112 | CA | Sacramento-Upper Clear | Chinook salmon | Whiskeytown Dam (Clear Cr.)
18020113 | CA | Cottonwood Headwaters | Chinook salmon | n/a
18020114 | CA | Upper Elder - Upper Thomas | Chinook salmon | n/a
18020118 | CA | Upper Cow - Battle Creek | Chinook salmon | n/a
18020119 | CA | Mill - Big Chico | Chinook salmon | n/a
18020120 | CA | Upper Butte Creek | Chinook salmon | n/a
18020125 | CA | Upper Yuba | Chinook salmon | n/a
18040001 | CA | Mid. San Joaquin- L. Cowchilla | Chinook salmon | n/a
18040002 | CA | Mid. San Joaquin- L. Merced- L. Stanislaus | Chinook salmon | La Grange Dam (Tuolumne R.)
18040003 | CA | San Joaquin Delta | Chinook salmon | n/a
18040004 | CA | L. Calaveras - Mormon Slough | Chinook salmon | n/a
18040005 | CA | L. Consumnes- L. Mokelumne | Chinook salmon | Camanche Dam
18040010 | CA | Upper Stanislaus | Chinook salmon | Goodwin Dam
18040011 | CA | Upper Calveras | Chinook salmon | New Hogan Dam
18040013 | CA | Upper Cosumnes | Chinook salmon | n/a

[FR Doc. E8-24515 Filed 10-14-08; 8:45 am]

BILLING CODE 3510-22-S